ENVIRONMENTAL PROTECTION AGENCY

[FRL-7514-2]

Prevention of Significant Deterioration (PSD) Program; Massachusetts; Notice of Ending of Delegation Agreement Between EPA and Massachusetts Department of Environmental Protection

AGENCY: Environmental Protection Agency (EPA).

ACTION: Information notice.

SUMMARY: This notice announces that effective March 3, 2003, the Massachusetts Department of Environmental Protection (DEP) ended its agreement with EPA to implement the Prevention of Significant Deterioration (PSD) program. Therefore, effective that date, EPA is the implementing authority for the PSD program in Massachusetts. This notice explains the consequences of this change for owners and operators of sources that have PSD permits or that will need such permits in the future.

DATES: Massachusetts' decision to end the agreement between the State and EPA that allowed DEP to implement the Federal PSD program became effective on March 3, 2003.

ADDRESSES: Copies of the documents relevant to Massachusetts PSD program delegation are available for public inspection during normal business hours, by appointment at the Office of Ecosystem Protection, U.S. Environmental Protection Agency, Region I, One Congress Street, 11th floor, Boston, MA during normal business hours.

FOR FURTHER INFORMATION CONTACT: Brendan McCahill, EPA Region I, (617) 918-1652, or send email to Mccahill.Brendan@epa.gov.

SUPPLEMENTARY INFORMATION: By letter dated February 27, 2003, the DEP has notified the Regional Administrator of EPA New England that the DEP will not accept authority for the implementation of the amended PSD program and is ending its June 30, 1982, agreement with EPA to assume responsibility for implementing the Federal PSD regulations (1982 Agreement).

On December 31, 2002, EPA published in the Federal Register revisions to the Federal PSD regulations (67 FR 80186). A final rule revising the Federal portions of implementation plans in 40 CFR part 52 to include the revisions to the Federal PSD regulations was published in the Federal Register on March 10, 2003. Both of these actions were effective on March 3, 2003.

The letter from the DEP explained that the DEP will no longer implement the Federal PSD program as of March 3, 2003. Consequently, as of March 3, 2003, sources of air pollution located in Massachusetts that are subject to the Federal PSD program must apply for and receive a PSD permit from EPA New England before beginning actual construction. Developers planning projects in Massachusetts that are expected to increase air pollution should refer to 40 CFR 52.21 or contact Brendan McCahill (see “FOR FURTHER INFORMATION CONTACT” above) at the EPA New England office for information regarding program applicability and permit application requirements.

Please note that the DEP's air permitting requirements under 310 CMR 7.02 are not affected by the state's decision to end the 1982 Agreement. The DEP interprets its regulations as requiring PSD project applicants to apply for a 310 CMR 7.02 Plan Approval. For the convenience of the project applicants and to reduce duplicative efforts, EPA New England will coordinate closely with the DEP on the application process and the development of permit requirements. When preparing PSD application submissions for EPA New England, we will work with applicants to develop the appropriate information that meets both the Federal PSD and State permitting requirements. For information regarding the application of the State permitting rules, please contact Donald Squires at Donald.Squires@state.ma.us or refer to the DEP's Web site at http://www.state.ma.us/dep/bwp/daqc/aqforms.htm.

The 1982 Agreement also gave the DEP lead responsibility for “preliminary enforcement” of all PSD permits issued by EPA before 1982 and for all future PSD permits issued by the DEP. Preliminary enforcement included activities such as inspection, compliance testing, information requirements and identification of violations. The DEP has identified the following facilities that are currently operating under a PSD permit issued by EPA or the DEP:

Stony Brook Energy Center (formally the Massachusetts Municipal Wholesale Electric Company);

Fall River Sewage Sludge Incinerator;

FlexCon Company;

Norton Company;

Natick Paperboard;

Covanta Haverhill (formally the Haverhill Resource Recovery Facility);

Wheelabrator North Andover (formally NESWC Resource Recovery Facility);

SEMASS Partnership (formally Rochester Resource Recovery Facility);

Berkshire Power LLC;

ANP Bellingham;

Bellingham Cogeneration;

ANP Blackstone;

Millennium Power Partners LP;

Mirant—Kendall LLC;

Cabot Power Corporation;

Exelon Mystic LLC (formally Sithe Mystic Development LLC);

General Electric;

SEMASS Partnership (formally SEMASS RRF);

Masspower Cogeneration;

Exelon Fore River Development;

Lowell Cogeneration;

Wheelabrator Milbury;

ECO Springfield LLC.

With the DEP's decision to end the 1982 Agreement, the DEP no longer has preliminary enforcement authority for the PSD program. EPA will conduct these activities. Therefore, as of March 3, 2003, the facilities listed above must now submit to EPA all emission data reports used to show compliance with a PSD permit limit. These facilities may already be submitting some of this data to EPA pursuant to Federal 40 CFR part 60 New Source Performance Standards, 40 CFR part 72 and 75 Acid Rain regulations or other Federal programs. Thus, for some pollutants, there would be no change in reporting.

As noted previously, the ending of the 1982 Agreement has no impact on obligations under Massachusetts law in general and Plan Approvals under 310 CMR 7.02 in particular. Therefore, the change in reporting for purposes of the PSD program does not change any requirement to submit to the DEP any emission report used to show compliance with any applicable 310 CMR 7.02 Plan Approval.

Dated: June 4, 2003.
Robert W. Varney,
Regional Administrator, EPA New England.

[FR Doc. 03-15256 Filed 6-16-03; 8:45 am]

BILLING CODE 6560-50-P